DEPARTMENT OF HOMELAND SECURITY

6 CFR Part 139

RIN 1601-AB17

Protection of Federal Property; Technical Amendment

AGENCY: Department of Homeland Security (DHS).

ACTION: Final rule; technical amendment.

SUMMARY: On June 9, 2025, DHS adopted regulations governing the protection of Federal property. These regulations contained cross references to old General Services Administration (GSA) regulations that have since been rescinded. This rule corrects the DHS regulations by removing these rescinded GSA cross-references. Additionally, this rule revises the language of the section regarding photography to clarify the prohibitions on photography and recording.

DATES: This rule is effective as of February 9, 2026.

FOR FURTHER INFORMATION CONTACT: Mr. David Hess, Deputy Director, FPS Policy, Communications and Engagement, 202-447-0800, fpsnprm@fps.dhs.gov.

SUPPLEMENTARY INFORMATION: On June 9, 2025, the Department of Homeland Security (DHS), published a final rule that adopted regulations governing the protection of Federal property in new part 139 to chapter 1 of title 6 of the Code of Federal Regulations (CFR). 90 FR 24217. Many of the provisions promulgated by the final rule were derived from analogous old GSA regulations contained in chapter 102, part 102-74, subpart C, of title 41 of the CFR and, thus, contained cross references to part 102-74.

On December 16, 2025, GSA published a final rule that removed subpart D of part 102-74 of title 41 of the CFR. 90 FR 58408, 58409 (Dec. 16, 2025). The cross references to subpart D of part 102-74 contained in Federal Protective Service (FPS) regulations thus are now obsolete. Accordingly, DHS is issuing this final rule to remove these cross-references. Specifically, this final rule removes cross references to part 102-74 found in §§ 139.55, 139.60, and 139.70.

Finally, DHS is revising § 139.65 for overall readability and to clarify the rules regarding photography and recording of Federal facilities and grounds. Specifically, DHS is revising paragraph (a) to make clear that the existing language referencing “rule” or “order” includes any Federal court order or rule, as originally intended though not expressly stated. Additionally, DHS is also reconciling the language in paragraph (b) to make clear that the general rule in paragraph (a) applies (i.e., the exceptions contained in paragraph (b) only apply when there is no applicable security regulation, rule, order, or directive, including any Federal court order or rule prohibiting photography or recording). These changes serve to maintain the original intent of this section and mirror the prior GSA regulations which these new regulations were founded upon. See Protection of Federal Property, 90 FR 4398, 4412 (“This [photography and recording] section would mirror, though not replicate a similar provision in the GSA regulations . . . The proposed substantive language would provide better clarity and notice to the public of the precise nature of prohibited and permitted recording conduct[.]”).

List of Subjects in 6 CFR Part 139

Aircraft, Alcohol and alcoholic beverages, Animals, Buildings and facilities, Civil disorders, Crime, Explosives, Federal buildings and facilities, Firearms, Gambling, Government employees, Government property, Government property management, Homeland Security, Law enforcement, Law enforcement officers, Penalties, Public buildings, Safety, Security measures, Terrorism, Tobacco, Unmanned aircraft.

For the reasons set forth in the preamble, DHS amends 6 CFR part 139 as set forth below:

PART 139—CONDUCT ON FEDERAL PROPERTY

1. The authority citation for part 139 continues to read as follows:

Authority: 6 U.S.C. 203(3) and 232(a); 40 U.S.C. 586(c) and 1315.

§ 139.55 [Amended]

2. Amend § 139.55(b)(3) by removing the text “in accordance with 41 CFR part 102-74, subpart D”, and adding, in its place, the text “as prescribed by GSA”.

§ 139.60 [Amended]

3. Amend § 139.60(b)(2) by removing the text “as specified in 41 CFR 102-74, subpart D,”.

4. Amend § 139.65 by revising paragraph (a) and paragraph (b) introductory text to read as follows:

§ 139.65 Photography and recording.

(a) General. Any person on Federal property is prohibited from photographing or creating video, image, or audio recordings of Federal facilities and grounds in contravention of any security regulation, rule, order, or directive, including any Federal Court Order or Rule; or in a manner that impedes or disrupts access to, or operations on, Federal property.

(b) Exceptions. When not prohibited by a security regulation, rule, order, or directive, including any Federal Court Order or Rule, the following activities are allowed:

* * * * *

§ 139.70 [Amended]

5. Amend § 139.70(b)(2) by removing the text “consistent with 41 CFR 102-74.265 through 102-74.310”.

Kristi Noem,
Secretary of Homeland Security.

[FR Doc. 2026-02501 Filed 2-6-26; 8:45 am]

BILLING CODE 9111-CC-P